DEPARTMENT OF LABOR

Employment and Training Administration

[TA-W-74,593]

Whirlpool Corporation Including On-Site Leased Workers From Career Solutions TEC Staffing, IBM Corporation, TEK Systems Penske Logistics, Eurest, Canteen, Kelly Services, Inc., Prodriver, Arkansas Warehouse, Inc., Andrews International Including Workers Whose Unemployment Insurance (UI) Wages Are Reported Through U.S. Security Fort Smith, AR; Amended Certification Regarding Eligibility To Apply for Worker Adjustment Assistance

In accordance with Section 223 of the Trade Act of 1974, as amended (“Act”), 19 U.S.C. 2273, the Department of Labor issued a Certification of Eligibility to Apply for Worker Adjustment Assistance on October 6, 2010, applicable to workers of Whirlpool Corporation, including on-site leased workers from Career Solutions TEC Staffing, Fort Smith, Arkansas. The workers are engaged in the production of refrigerators and trash compactors. The notice was published in the Federal Register on October 25, 2010 (75 FR 65520). The notice was amended on December 6, 2010, November 7, 2011 and November 18, 2011 to include several on-site leased worker firms. The notices were published in the Federal Register on December 13, 2010 (75 FR 77665), November 28, 2011 (76 FR 72978) and November 29, 2011(76 FR 73683-73684), respectively.

At the request of a company official, the Department reviewed the certification for workers of the subject firm. New information shows that workers leased from Andrews International employed on-site at the Fort Smith, Arkansas location of Whirlpool Corporation had their wages reported through a separate unemployment insurance (UI) tax account under the name U.S. Security.

Accordingly, the Department is amending this certification to properly reflect this matter.

The intent of the Department's certification is to include all workers of the subject firm who were adversely affected by a shift in the production of refrigerators and trash compactors to Mexico.

The amended notice applicable to TA-W-74,593 is hereby issued as follows:

All workers of Whirlpool Corporation, including on-site leased workers from Career Solutions TEC Staffing, IBM Corporation, TEK Systems, Penske Logistics, Eurest, Canteen, Kelly Services, Inc., Prodriver, Arkansas Warehouse, Inc., and Andrews International, including workers whose unemployment insurance (UI) wages are reported through U.S. Security, Fort Smith, Arkansas, who became totally or partially separated from employment on or after October 2, 2010, through October 6, 2012, and all workers in the group threatened with total or partial separation from employment on the date of certification through two years from the date of certification, are eligible to apply for adjustment assistance under Chapter 2 of Title II of the Trade Act of 1974, as amended.

Dated: Signed at Washington, DC, this 23rd day of March 2012.
Michael W. Jaffe,
Certifying Officer, Office of Trade Adjustment Assistance.

[FR Doc. 2012-7798 Filed 3-30-12; 8:45 am]

BILLING CODE 4510-FN-P